DEPARTMENT OF VETERANS AFFAIRS

[OMB Control No. 2900-NEW-IRIS]

Proposed Information Collection Activity: New Collection

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information, including each new collection, and allow 60 days for public comment in response to the notice. This notice solicits comments on the information needed to automatically direct an electronic inquiry to the appropriate office for action.

DATES: Written comments and recommendations on the proposed collection of information should be received on or before April 16, 2001.

ADDRESSES: Submit written comments on the collection of information to Ann W. Bickoff, Veterans Health Administration (193B1), Department of Veterans Affairs, 810 Vermont Avenue, NW., Washington, DC 20420 or e-mail comments to: ann.bickoff@mail.va.gov. Please refer to “OMB Control No. 2900-NEW-IRIS” in any correspondence.

FOR FURTHER INFORMATION CONTACT: Ann W. Bickoff at (202) 273-8310 or FAX (202) 273-9381.

SUPPLEMENTARY INFORMATION: Under the PRA of 1995 (Public Law 104-13; 44 U.S.C., 3501-3520), Federal agencies must obtain approval from the Office of Management and Budget (OMB) for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Inquiry Routing and Information System (IRIS).

OMB Control Number: 2900-NEW-IRIS.

Type of Review: New collection.

Abstract: The World Wide Web is a powerful media for the delivery of information and services to veterans, dependents, and active duty personnel worldwide. The proposed Inquiry Routing and Information System (IRIS) would allow a VA customer to be able to submit their questions at any time and receive answers more quickly than through standard mail. Because the system is automated, inquires would be directed to the appropriate individual/office automatically. The contact information being solicited will be used to identify the particular veteran. VA personnel will use the contact information to determine the location of a specific veteran's file, and to accomplish the action requested by the correspondent such as process a benefit claim or file material in the individual's claims folder.

Affected Public: Individuals or Households.

Estimated Annual Burden: 2,000 hours.

Estimated Average Burden Per Respondent: 10 minutes.

Frequency of Response: On occasion.

Estimated Number of Respondents: 12,000.

Dated: January 23, 2001.
By direction of the Secretary.
Donald L. Neilson,
Director, Information Management Service.

[FR Doc. 01-3863 Filed 2-14-01; 8:45 am]

BILLING CODE 8320-01-P